DEPARTMENT OF COMMERCE

National Institute of Standards and Technology

Manufacturing Extension Partnership Advisory Board

AGENCY: National Institute of Standards and Technology (NIST), Commerce.

ACTION: Notice of open meeting.

SUMMARY: The National Institute of Standards and Technology (NIST) announces that the Manufacturing Extension Partnership (MEP) Advisory Board will hold an open meeting on Wednesday, August 29, 2012, from 8:30 a.m. to 5:00 p.m. Eastern Time.

DATES: The meeting will convene August 29, 2012, at 8:30 a.m. and will adjourn at 5:00 p.m. Eastern Time that day.

ADDRESSES: The meeting will be held at the National Institute of Standards and Technology, 100 Bureau Drive, Gaithersburg, MD 20899. Please note admittance instructions under the SUPPLEMENTARY INFORMATION section of this notice.

FOR FURTHER INFORMATION CONTACT: Karen Lellock, Manufacturing Extension Partnership, National Institute of Standards and Technology, 100 Bureau Drive, Mail Stop 4800, Gaithersburg, Maryland 20899-4800, telephone number (301) 975-4269, email: Karen.Lellock@nist.gov.

SUPPLEMENTARY INFORMATION: The MEP Advisory Board (Board) is composed of 10 members, appointed by the Director of NIST. MEP is a unique program consisting of centers across the United States and Puerto Rico with partnerships at the state, federal, and local levels. The Board provides a forum for input and guidance from the MEP program stakeholders in the formulation and implementation of tools and services focused on supporting and growing the U.S. manufacturing industry and provides advice on MEP programs, plans, and policies, assesses the soundness of MEP plans and strategies, and assesses current performance against MEP program plans.

This meeting will focus on (1) a review of MEP's work with several states on the development of plans to support the growth of advanced manufacturing industries, (2) an update on NIST manufacturing initiatives, and (3) an update on MEP centers' implementation of key initiatives. The agenda may change to accommodate other Board business.

Individuals and representatives of organizations who would like to offer comments and suggestions related to the MEP Advisory Board's business are invited to request a place on the agenda. Approximately 15 minutes will be reserved for public comments at the beginning of the meeting. Speaking times will be assigned on a first-come, first-served basis. The amount of time per speaker will be determined by the number of requests received but is likely to be no more than three to five minutes each. Questions from the public will not be considered during this period. Speakers who wish to expand upon their oral statements, those who had wished to speak but could not be accommodated on the agenda, and those who were unable to attend in person are invited to submit written statements to the MEP Advisory Board, National Institute of Standards and Technology, 100 Bureau Drive, Mail Stop 4800, Gaithersburg, Maryland 20899-4800, or via fax at (301) 963-6556, or electronically by email to Karen.Lellock@nist.gov.

All visitors to the NIST site are required to pre-register to be admitted. Please submit your name, time of arrival, email address and phone number to Karen Lellock by 5:00 p.m. Eastern Time, Wednesday, August 22, 2012. Non-U.S. citizens must also submit their country of citizenship, title, employer/sponsor, and address. Ms. Lellock's email address is Karen.Lellock@nist.gov and her phone number is (301) 975-4269.

Dated: August 15, 2012.
Kevin Kimball,
Chief of Staff.

[FR Doc. 2012-20529 Filed 8-20-12; 8:45 am]

BILLING CODE 3510-13-P